DEPARTMENT OF THE INTERIOR

Fish and Wildlife Service

50 CFR Part 17

RIN 1018-AI77

Endangered and Threatened Wildlife and Plants; Proposed Designation of Critical Habitat for Astragalus magdalenae var. peirsonii (Peirson's milk-vetch)

AGENCY: Fish and Wildlife Service, Interior.

ACTION: Proposed rule; reopening of public comment period and notice of availability of draft economic analysis.

SUMMARY: We, the U.S. Fish and Wildlife Service (Service), announce the availability of the draft economic analysis for the proposed designation of critical habitat for Astragalus magdalenae var. peirsonii (Peirson's milk-vetch) under the Endangered Species Act of 1973, as amended. We also are reopening the public comment period for the proposal to designate critical habitat for this species to allow all interested parties to comment on the proposed rule and the associated draft economic analysis. Comments previously submitted on the proposed rule need not be resubmitted as they have been incorporated into the public record as part of this reopening of the comment period, and will be fully considered in preparation of the final rule.

DATES: We will accept all comments received on or before May 6, 2004. Any comments that we receive after the closing date may not be considered in the final decision on this proposal.

ADDRESSES: If you wish to comment, you may submit your comments and materials concerning this proposed rule by any one of several methods:

(1) You may submit written comments and information to the Field Supervisor, U.S. Fish and Wildlife Service, Carlsbad Fish and Wildlife Office, 6010 Hidden Valley Road, Carlsbad, CA 92009.

(2) You may hand-deliver written comments to our office, at the address given above, or fax your comments to (760) 431-9618.

(3) You may send comments by electronic mail (e-mail) to fw1pmv@r1.fws.gov. Please see the Public Comments Solicited section below for file format and other information about electronic filing. In the event that our Internet connection is not functional, please submit your comments by the alternate methods mentioned above.

Comments and materials received, as well as supporting documentation used in preparation of the proposed critical habitat rule, will be available for public inspection, by appointment, during normal business hours at the above address. You may obtain copies of the draft economic analysis for Astragalus magdalenae var. peirsonii by contacting the Carlsbad Fish and Wildlife Office at the above address. The draft economic analysis and the proposed rule for critical habitat designation also are available on the Internet at http://www.carlsbad.fws.gov/. In the event that our internet connection is not functional, please obtain copies of documents directly from the Carlsbad Fish and Wildlife Office.

FOR FURTHER INFORMATION CONTACT: Mr. Jim Bartel, Field Supervisor, Carlsbad Fish and Wildlife Office, at the address listed above (telephone (760) 431-9440 or facsimile (760) 431-9618).

SUPPLEMENTARY INFORMATION:

Public Comments Solicited

We intend any final action resulting from this proposal to be as accurate and as effective as possible. Therefore, we solicit comments or suggestions from the public, other concerned governmental agencies, the scientific community, industry, or any other interested party concerning the economic analysis or the proposed rule. We do not anticipate extending or reopening the comment period on the proposed rule after this comment period ends (see DATES). We particularly seek comments concerning:

(1) The reasons why any habitat should or should not be determined to be critical habitat as provided by section 4 of the Act, including whether the benefits of critical habitat designation will outweigh any threats to the species resulting from designation;

(2) Specific information on the amount and distribution of Astragalus magdalenae var. peirsonii and its habitat, and which habitat is essential to the conservation of this species and why;

(3) Land use designations and current or planned activities in the subject area and their possible impacts on proposed habitat;

(4) Any foreseeable economic or other impacts resulting from the proposed designation of critical habitat, in particular, any impacts on small entities or families,

(5) Whether the economic analysis identifies all State and local costs. If not, what costs are overlooked;

(6) Whether the economic analysis makes appropriate assumptions regarding current practices and likely regulatory changes imposed as a result of the designation of critical habitat, including whether it is a reasonable assumption that, even in the absence of regulatory restrictions from this designation, visitation at the Imperial Sand Dunes Recreation Area will not increase between 2013 and 2024, and if not, what rate of increase in visitation to the area is likely;

(7) Whether the economic analysis correctly assesses the effect on regional costs associated with land use controls that derive from the designation;

(8) Whether the designation will result in disproportionate economic impacts to specific areas that should be evaluated for possible exclusion from the final designation;

(9) Whether the economic analysis appropriately identifies all costs that could result from the designation; and

(10) Whether our approach to critical habitat designation could be improved or modified in any way to provide for greater public participation and understanding, or to assist us in accommodating public concern and comments.

All previous comments and information submitted during the initial comment period on the proposed rule need not be resubmitted. If you wish to comment, you may submit your comments and materials concerning this rule by any one of several methods (see ADDRESSES section). Please submit Internet comments to fw1pmv@r1.fws.gov in ASCII file format and avoid the use of special characters or any form of encryption. Please also include “Attn: Peirson's Milk-vetch Critical Habitat” in your e-mail subject header, and your name and return address in the body of your message. If you do not receive a confirmation from the system that we have received your Internet message, contact us directly by calling our Carlsbad Fish and Wildlife Office (see FOR FURTHER INFORMATION CONTACT section).

Our practice is to make comments, including names and home addresses of respondents, available for public review during regular business hours. Individual respondents may request that we withhold their home addresses from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety. Comments and materials received will be available for public inspection, by appointment, during normal business hours at the above address.

Background

Astragalus magdalenae var. peirsonii is a stout, short-lived perennial member of the Fabaceae (Legume Family). Plants develop extremely long tap roots (Barneby 1964) that penetrate deeply to the more moist sand and anchor the plants in the shifting dunes. A. magdalenae var. peirsonii occurs on open sand dunes in a vegetation community referred to as psammophytic scrub (Westec 1977); desert psammophytic scrub is described as being distinguished by a rather large number of plants restricted entirely or largely to an active dune area (Thorne 1982).

Currently, the only known population of Astragalus magdalenae var. peirsonii remaining in the United States is located in the Algodones Dunes of Imperial County, California. This dune field is one of the largest in the United States, and one of the most popular for Off-Highway Vehicle (OHV) use. The Algodones Dunes are often referred to as the Imperial Sand Dunes, a designation derived from their inclusion in the Imperial Sand Dunes Recreation Area (ISDRA) established by the Bureau of Land Management (BLM). Virtually all lands in the Algodones Dunes are managed by BLM. However, the State of California and private parties own some small inholdings in the dune area. Additional data on the biology and distribution of A. magdalenae var. peirsonii and impacts thereto can be found in the proposed rule to designate critical habitat for the taxon, published in the Federal Register on August 5, 2003 (68 FR 46143).

We listed Astragalus magdalenae var. peirsonii as threatened on October 6, 1998 (63 FR 53596), due to threats of increasing habitat loss from OHV use and associated recreational development, destruction of plants, and lack of protection afforded the plant under State law. In the Federal Register of August 5, 2003, we proposed to designate a total of approximately 52,780 acres (ac) (21,359 hectares (ha)) of critical habitat in Imperial County, California (68 FR 46143).

Critical habitat identifies specific areas, both occupied and unoccupied, that are essential to the conservation of a listed species and that may require special management considerations or protection. If the proposed rule is made final, section 7 of the Act will prohibit destruction or adverse modification of critical habitat by any activity funded, authorized, or carried out by any Federal agency. Federal agencies proposing actions affecting areas designated as critical habitat must consult with us on the effects of their proposed actions, pursuant to section 7(a)(2) of the Act.

Section 4 of the Act requires that we consider economic and other relevant impacts prior to making a final decision on what areas to designate as critical habitat. We have prepared a draft economic analysis for the proposal to designate certain areas as critical habitat for Astragalus magdalenae var. peirsonii. This analysis considers the potential economic effects of designating critical habitat for A. magdalenae var. peirsonii. It also considers the economic effects of protective measures taken as a result of listing the species under the Act, and other Federal, State, and local laws that aid habitat conservation in areas proposed for designation.

Limitations on future OHV access within the ISDRA will depend on the outcome of future management decisions. Future impacts could range from no effects to complete closure of critical habitat areas within the eight distinct BLM management areas. Pre-critical habitat economic benefits enjoyed by OHV users within the proposed critical habitat designation range from $0 for the North Algodones Wilderness (currently closed to OHV use) and Dune Buggy Flats management area (not proposed for designation) to $4.9 million per year for that portion of the Glamis management area proposed for designation. If all of the areas proposed for designation within the ISDRA were closed to OHV use, the annual consumer surplus impact would range from $8.9 million per year to $9.9 million per year.

While future closures of areas are not anticipated to occur by either the Service or BLM, in the past the ISDRA has experienced closures of areas to OHV use to provide protection to Astragalus magdalenae var. peirsonii. Given the uncertainty of future management decisions, the economic analysis provides estimates of the potential total economic contribution of each ISDRA management area and that portion of each management area proposed as critical habitat. These total economic contribution estimates represent the upper bound of impacts that could result from closure of these areas to OHV use.

We solicit data and comments from the public on the draft economic analysis, as well as on all aspects of the proposed rule to designate critical habitat for Astragalus magdalenae var. peirsonii. We may revise the proposal, or its supporting documents, to incorporate or address new information received during the comment period. In particular, we may exclude an area from critical habitat if we determine that the benefits of excluding the area outweigh the benefits of including the area as critical habitat, provided such exclusion will not result in the extinction of the species.

Author

The primary author of this document is the Carlsbad Fish and Wildlife Office (see ADDRESSES section).

The authority for this action is the Endangered Species Act of 1973, as amended (16 U.S.C. 1531 et seq.).

Dated: March 30, 2004.
Paul Hoffman,
Acting Assistant Secretary for Fish and Wildlife and Parks.

[FR Doc. 04-7694 Filed 4-5-04; 8:45 am]

BILLING CODE 4310-55-P